DEPARTMENT OF THE INTERIOR

Bureau of Reclamation

[RR04963000, XXXR0680R1, RR.17549661.1000000]

Notice of Intent To Prepare a Draft Environmental Impact Statement and Public Scoping Period for the Lake Powell Pipeline Project

AGENCY: Bureau of Reclamation, Upper Colorado Basin, Interior Region 7.

ACTION: Notice of intent; request for scoping comments.

SUMMARY: The Bureau of Reclamation (Reclamation) intends to prepare an Environmental Impact Statement (EIS) on the Lake Powell Pipeline (LPP) Project. Reclamation is requesting public scoping comments to identify significant issues or other alternatives to be addressed in the EIS.

DATES: Submit comments on or before January 10, 2020.

Three scoping meetings will be held during the scoping period from 6:00 p.m. to 8:00 p.m. on January 7-9, 2020.

ADDRESSES: Provide written scoping comments and requests to be added to the mailing list to Mr. Rick Baxter, Program Manager, Bureau of Reclamation, Provo Area Office, 302 East Lakeview Parkway, Provo, UT 84606; via submittal form at https://www.usbr.gov/uc/envdocs/eis/LakePowellPipeline/index.html; or email lpp@usbr.gov.

The three scoping meetings will be held at the following locations:

January 7, 2020—Kanab Center, 20 North 100 East, Kanab, Utah 84741

January 8, 2020—Dixie Center, 1835 South Convention Center Dr., St. George, Utah 84790

January 9, 2020—Valley High, 325 West 11000 South, South Jordan, Utah 84095

FOR FURTHER INFORMATION CONTACT: Mr. Rick Baxter, Program Manager, Bureau of Reclamation, Provo Area Office, 302 East Lakeview Parkway, Provo, UT 84606; telephone (801) 379-1078; facsimile (801) 379-1159; email lpp@usbr.gov. Persons who use a telecommunications device for the deaf may call the Federal Relay Service (FedRelay) at 1-800-877-8339 TTY/ASCII to contact the above individual during normal business hours or to leave a message or question after hours. You will receive a reply during normal business hours. Information on this project may also be found at: https://www.usbr.gov/uc/envdocs/eis/LakePowellPipeline/index.html.

SUPPLEMENTARY INFORMATION: Reclamation is issuing this notice pursuant to the National Environmental Policy Act of 1969, as amended (NEPA), 42 U.S.C. 4321 et seq.; the Council on Environmental Quality's regulations for implementing NEPA, 40 CFR parts 1500 through 1508; Department of the Interior's NEPA regulations, 43 CFR part 46; and Bureau of Land Management regulations at 43 CFR 1610.2.

Background

Reclamation will prepare an EIS for the LPP Project as proposed by the Utah Board of Water Resources (UBWR). The LPP is a proposed 140-mile, 69-inch-diameter water delivery pipeline that begins at Lake Powell near Glen Canyon Dam in Page, Arizona, and ends at Sand Hollow Reservoir near St. George, Utah. The pipeline would deliver up to 86,249 acre-feet of water from Lake Powell to Sand Hollow Reservoir. UBWR proposes building the LPP in order to bring a second source of water to Washington and Kane Counties in Utah to meet future water demands, diversify the regional water supply portfolio, and enhance the water supply reliability.

UBWR previously proposed a pipeline project with an intake at Lake Powell that included a hydroelectric peaking station at Hurricane Cliffs, Utah. The Federal Energy Regulatory Commission (FERC) was the lead Federal agency for that project because it would have required a hydroelectric license issued by the FERC. The UBWR withdrew its application to the FERC on September 25, 2019, and the project was terminated effective October 10, 2019. (https://elibrary.ferc.gov/idmws/file_list.asp?accession_num=20191016-3069) Reclamation has been designated the lead Federal agency by the Department for the LPP NEPA process. The Bureau of Land Management (BLM), U.S. Fish and Wildlife Service (FWS), Bureau of Indian Affairs (BIA) and National Park Service (NPS) are cooperating agencies. Based on the changes to project design and the lead federal agency, Reclamation is initiating a new public scoping process, which will require interested parties to submit new comments on the current proposal. Reclamation is also reinitiating government to government consultation with Indian tribes under section 106 of the National Historic Preservation Act and in accordance with Executive Order 13175.

Two pipeline alignments have been proposed: The Southern Alternative and the Highway Alternative. Both alternatives begin and end in the same locations. The Southern Alternative would travel south of the Kaibab Indian Reservation while the alignment for the Highway Alternative would cross lands held in trust by the United States for the benefit of the Kaibab Band of Paiute Indians, following Arizona State Route 389. The Southern Alternative would cross land administered by the BLM in Utah and Arizona and would require multiple right-of-way (ROW) grants and an amendment to the Arizona Strip Resource Management Plan (RMP), because a small portion of the pipeline would go outside an approved utility corridor.

The Highway Alternative would cross BLM and Tribal trust lands, which would require the BLM and BIA to issue ROW grants and require a tribal resolution from the Kaibab Band of Paiute Indians. Both alternatives would cross lands administered by Reclamation and the NPS, requiring Reclamation to issue a license agreement and the NPS to issue a ROW permit under either alternative.

In addition, UBWR has requested a water exchange contract with Reclamation. Under the exchange contract, UBWR would forbear the diversion of a portion of the natural flows to which UBWR is entitled and allow these flows to contribute to meeting the Endangered Species Act Upper Colorado River Recovery Implementation Program requirements in the Green River. In exchange, UBWR would deplete an equal amount of water released from Flaming Gorge Dam throughout the year and available at Lake Powell. This exchange contract would not entitle UBWR to call for releases from Flaming Gorge.

Public Disclosure

Before including your address, phone number, email address, or other personal identifying information in your comment, you should be aware that your entire comment—including your personal identifying information—may be made publicly available at any time. While you may ask us in your comment to withhold your personal identifying information from public review, we cannot guarantee that we will be able to do so.

Brent Esplin,
Regional Director, Upper Colorado Basin—Interior Region 7, Bureau of Reclamation.

[FR Doc. 2019-26357 Filed 12-5-19; 8:45 am]

BILLING CODE 4332-90-P